DEPARTMENT OF AGRICULTURE

Forest Service

36 CFR Part 242

DEPARTMENT OF THE INTERIOR

Fish and Wildlife Service

50 CFR Part 100

RIN 1018-AI88

Subsistence Management Regulations for Public Lands in Alaska

AGENCIES: Forest Service, Agriculture; Fish and Wildlife Service, Interior.

ACTION: Proposed rule.

SUMMARY: We, the U.S. Forest Service and U.S. Fish and Wildlife Service, are proposing to amend the regulations governing subsistence use of wildlife in Alaska by clarifying how old a person must be to receive a Federal Subsistence Registration Permit or Federal Designated Harvester Permit and by removing the requirement that Regional Councils must have an odd number of members. These changes are viewed as noncontroversial and are designed to ensure that the regulations for the Federal Subsistence Management Program in Alaska are easy for the public to understand and reflect current policies.

DATES: We must receive your written public comments no later than April 4, 2003.

ADDRESSES: Submit written comments to Office of Subsistence Management, 3601 C Street, Suite 1030, Anchorage, AK 99503. Submit electronic comments to Bill_Knauer@fws.gov. For electronic comments, please submit as either WordPerfect or MS Word files, avoiding the use of any special characters and any form of encryption.

FOR FURTHER INFORMATION CONTACT: For Forest Service questions, contact Ken Thompson, Regional Subsistence Program Manager, USDA-FS Alaska Region, at (907) 786-3592. For Fish and Wildlife Service questions, contact Thomas H. Boyd at (907) 786-3888.

SUPPLEMENTARY INFORMATION:

Background

The regulations at 36 CFR part 242 and 50 CFR part 100 (referred to below as “the regulations”), authorized by Title VIII of the Alaska National Interest Lands Conservation Act (16 U.S.C. 3101-3126), implement the Federal Subsistence Management Program on public lands in Alaska.

On May 7, 2002, we published in the Federal Register (67 FR 30559-30571) a final rule that made certain changes to the regulations. In that final rule, we clarified how old a person must be to receive a Federal Subsistence Registration Permit or Federal Designated Harvester Permit, and we retained, without change, a long-held requirement that Regional Councils must have an odd number of members.

At the request of other agencies, in the final rule, we added language to § ___.6(b) of the regulations to clarify that, “In order to receive a Federal Subsistence Registration Permit or Federal Designated Harvester Permit or designate someone to harvest fish or wildlife for you under a Federal Designated Harvester Permit, you must be old enough to have reasonably harvested that species yourself (or under the guidance of an adult).” Since the publication of the final rule, we have determined that this language could be misleading and should be further clarified. Therefore, we are proposing editorial changes to this paragraph to make it easier to understand.

In addition, in the final rule, we retained, without change, a long-held requirement in § ___.11(b)(1) stating, “The number of members for each Regional Council shall be established by the Board, and shall be an odd number.” We retained the requirement that Regional Councils have an odd number of members to prevent the possibility of a tie during Council votes. Since the publication of the final rule, however, the Deputy Secretary of the Department of the Interior approved a Federal Subsistence Board recommendation to increase the size of Regional Councils to 10 or 13 members. These increases will help achieve better balance, as required by the Federal Advisory Committee Act (5 U.S.C. App.1), in Regional Councils. Further, we have learned that in Regional Council meetings, if a vote count is tied, that motion fails; therefore, our reason for requiring an odd number of members does not apply. In light of this new information, we are proposing to revise § ___.11(b)(1) to remove the requirement that Regional Councils must have an odd number of members. This change would bring this paragraph into accord with current policies.

Elsewhere in today's Federal Register, we have published a direct final rule to promulgate the same regulatory changes to 36 CFR 242 and 50 CFR 100 proposed here. We published the direct final rule because we believe these changes are noncontroversial and anticipate no adverse public comment on them. If we receive no adverse comments regarding these amendments within 45 days, then these changes become effective 60 days from today, and we will withdraw this proposed rule. If we do receive adverse comments, then this proposed rule initiates the normal notice-and-comment rulemaking proceedings. We are opening this comment period for 45 days instead of 60 days because we need this regulatory change in place prior to the councils' recruitment and appointment process for the winter 2004 meeting cycle. This entire process normally takes a year to complete.

Required Determinations

Regulatory Planning and Review (E.O. 12866), Regulatory Flexibility Act (5 U.S.C. 601 et seq.), and Small Business Regulatory Enforcement Fairness Act (5 U.S.C. 804(2))

An economic analysis is not necessary, as this proposed rule would not have an economic impact on any entities, large or small. The Office of Management and Budget (OMB) has determined that this proposed rule is not a significant rule under E.O. 12866, and, therefore, OMB has not reviewed this proposed rule.

Unfunded Mandates Reform Act (2 U.S.C. 1501 et seq.

In accordance with the Unfunded Mandates Reform Act:

(a) This proposed rule would not “significantly or uniquely” affect small governments. A Small Government Agency Plan is not required.

(b) This proposed rule would not produce a Federal mandate of $100 million or greater in any year, that is, it is not a “significant regulatory action” under the Unfunded Mandates Reform Act.

Takings

In accordance with Executive Order 12630, this proposed rule would not have significant takings implications. A takings implication assessment is not required.

Federalism

In accordance with Executive Order 13132, the proposed rule would not have significant Federalism effects. A Federalism assessment is not required.

Civil Justice Reform

In accordance with Executive Order 12988, the Office of the Solicitor has determined that the proposed rule would not unduly burden the judicial system and meets the requirements of sections 3(a) and 3(b)(2) of the Order.

Paperwork Reduction Act (44 U.S.C. 3501 et seq.)

This proposed rule does not contain any new information collection or recordkeeping requirements under the Paperwork Reduction Act of 1995.

National Environmental Policy Act

We have determined that an Environmental Assessment and/or an Environmental Impact Statement as defined by the National Environmental Policy Act of 1969 need not be prepared for this proposed rule. This proposal does not constitute a major Federal action significantly affecting the quality of the human environment.

List of Subjects

36 CFR Part 242

Administrative practice and procedure, Alaska, Fish, National forests, Public lands, Reporting and recordkeeping requirements, Wildlife.

50 CFR Part 100

Administrative practice and procedure, Alaska, Fish, National forests, Public lands, Reporting and recordkeeping requirements, Wildlife.

For the reasons set out in the preamble, the Departments propose to amend Title 36, Part 242, and Title 50, Part 100, of the Code of Federal Regulations, as set forth below.

PART___—SUBSISTENCE MANAGEMENT REGULATIONS FOR PUBLIC LANDS IN ALASKA

1. The authority citation for both 36 CFR Part 242 and 50 CFR Part 100 would continue to read as follows:

Authority: 16 U.S.C. 3, 472, 551, 668dd, 3101-3126; 18 U.S.C. 3551-3586; 43 U.S.C. 1733.

2. In § ___.6, paragraph (b) would be revised to read as follows:

§ ___.6 Licenses, permits, harvest tickets, tags, and reports.

* * * * *

(b) In order to receive a Federal Subsistence Registration Permit or Federal Designated Harvester Permit or designate someone to harvest fish or wildlife for you under a Federal Designated Harvester Permit, you must be old enough to reasonably harvest that species yourself (or under the guidance of an adult).

* * * * *

3. In § ___.11, paragraph (b)(1), the first sentence would be revised to read as follows:

§ ___.11 Regional advisory councils.

* * * * *

(b) * * *

(1) The number of members for each Regional Council shall be established by the Board. * * *

* * * * *

Dated: January 31, 2003.
Gale A. Norton,
Secretary of the Interior.
Steven A. Brink,
Acting Regional Forester, USDA—Forest Service.

[FR Doc. 03-3742 Filed 2-14-03; 8:45 am]

BILLING CODE 3410-11-P; 4310-55-P